DEPARTMENT OF THE TREASURY

Submission for OMB Review; Comment Request

April 9, 2013.

The Department of the Treasury will submit the following information collection request to the Office of Management and Budget (OMB) for review and clearance in accordance with the Paperwork Reduction Act of 1995, Public Law 104-13, on or after the date of publication of this notice.

DATES: Comments should be received on or before May 13, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Community Development Financial Institutions (CDFI) Fund

OMB Number: 1559—NEW.

Type of Review: New generic collection.

Title: Native American Communities' Access to Capital and Credit Study.

Abstract: Pursuant to the Community Development Banking and Financial Institutions Act of 1994, as amended (12 U.S.C. 4701 et seq.), the CDFI Fund provides training and technical assistance to CDFIs to enhance their ability to make loans and investments and provide services for the benefit of designated investment areas and targeted populations. Further, the CDFI Fund administers the Native Initiatives, which serve Native Communities. The information collected will be used to identify specific subject matter and data to develop and write the Study. The Study will update the 2001 Native American Lending Study conducted by the CDFI Fund, which resulted in the creation of the Native Initiatives. The requested information is necessary to support effective use of Federal resources.

Affected Public: Certified CDFIs, entities seeking CDFI certification and similar entities.

Estimated Total Burden Hours: 2,500.

Dawn D. Wolfgang,
Treasury PRA Clearance Officer.

[FR Doc. 2013-08645 Filed 4-11-13; 8:45 am]

BILLING CODE 4810-70-P